DEPARTMENT OF LABOR

Employment and Training Administration

[TA-W-40,525, TA-W-40,525E, and TA-W-40,525F]

The Boeing Company, Commercial Airplane Group, Seattle, WA, and Corinth, TX; Amended Certification Regarding Eligibility To Apply for Worker Adjustment Assistance

In accordance with section 223 of the Trade Act of 1974 (19 USC 2273) the Department of Labor issued a Certification Regarding Eligibility to Apply for Worker Adjustment Assistance on March 18, 2002, applicable to workers of The Boeing Company, Commercial Airplane Group, Seattle, Washington. On April 26, 2002, the certification was amended to include workers of The Boeing Company plants in Corinth and Irving, Texas. The notice was published in the Federal Register on June 4, 2002 (67 FR 38523).

At the request of the State agency, the Department again reviewed the amended certification for workers of the subject firm. The review of the TAA petition certification revealed that the impact date established for workers of The Boeing Company, Seattle, Washington, was February 25, 2002, the day immediately following the expiration of the previous certification for the Boeing workers in Seattle, Washington (TA-W-37,129).

The review further found that had The Boeing Company's Seattle workers not been previously certified, the impact date would have been set at December 18, 2000, one year prior to the date of the petition.

Other findings show that when the amendment was issued to include workers of The Boeing Company in Corinth and Irving, Texas, the Department failed to set the earliest impact date for those workers.

Therefore, the Department is again amending the certification to change the impact date for workers of The Boeing Company, Corinth and Irving, Texas, from February 25, 2002 to December 18, 2000.

The amended notice applicable to TA-W-40,525 is hereby issued as follows:

All workers of The Boeing Company, Commercial Airplane Group, Seattle, Washington (TA-W-40,525), who became totally or partially separated from employment on or after February 25, 2002 through March 18, 2004, and workers of The Boeing Company, Commercial Airplane Group, Corinth, Texas (TA-W-40,525E), and Irving, Texas (TA-W-40,525F), who became totally or partially separated from employment on or December 18, 2000 through March 18, 2004, are eligible to apply for adjustment assistance under Section 223 of the Trade Act of 1974.

Signed at Washington, DC, this 18th day of July, 2002.
Linda G. Poole,
Certifying Officer, Division of Trade Adjustment Assistance.

[FR Doc. 02-19086 Filed 7-26-02; 8:45 am]

BILLING CODE 4510-30-P